DEPARTMENT OF DEFENSE

Defense Logistics Agency

[DoD-2006-OS-0125]

Privacy Act of 1974; Systems of Records

AGENCY: Defense Logistics Agency.

ACTION: Notice to amend a system of records.

SUMMARY: The Defense Logistics Agency is amending a system of records notice to its existing inventory of record systems subject to the Privacy Act of 1974 (5 U.S.C. 552a), as amended.

DATES: This action will be effected without further notice on July 5, 2006 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Susan Salus at (703) 767-6183.

SUPPLEMENTARY INFORMATION: The Defense Logistics notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new altered system report.

Dated: May 26, 2006.
C.R. Choate,
Alternate OSD Federal Register Liaison Officer, Department of Defense.

S322.05 DMDC

System name:

Noncombatant Evacuation and Repatriation Data Base (May 7, 1999, 64 FR 24626).

Changes:

* * * * *

System Location:

Delete entry and replace with: “Defense Manpower Data Center, DoD Center Monterey Bay, 400 Gigling Road, Seaside, CA 93955-6771. Information may be accessed by remote terminals at the repatriation centers. The location of the repatriation centers can be obtained from the System manager listed below.”

* * * * *

Retention and disposal:

Delete entry and replace with: “Master file, system documentation, codebooks, record layouts, and other system documentation are permanent. Inputs/Source Records are deleted and/or destroyed after data have been entered into the master file or when no longer needed for operational purposes, whichever is later. Summary reports (electronic or paper) are deleted and/or destroyed when no longer needed for operational purposes.”

* * * * *

Notification Procedure:

Delete entry and replace with: “Individuals seeking to determine whether information about themselves is contained in this system should address written inquiries to the Privacy Act Officer, Headquarters, Defense Logistics Agency, ATTN: DP, 8725 John J. Kingman Road, Stop 2533, Fort Belvoir, VA 22060-6221.”

Record Access Procedures:

Delete entry and replace with: “Individuals seeking access to information about themselves is contained in this system should address written inquiries to the Privacy Act Officer, Headquarters, Defense Logistics Agency, ATTN: DP, 8725 John J. Kingman Road, Stop 2533, Fort Belvoir, VA 22060-6221.

Written inquiry should contain the full name, Social Security Number, date of birth, and current address and telephone number of the individual.”

Contesting Record Procedures:

Delete entry and replace with: “The DLA rules for accessing records, for contesting contents, and appealing initial agency determinations are contained in 32 CFR part 323, or may be obtained from the Privacy Officer, Headquarters, Defense Logistics Agency, ATTN: DP, 8725 John J. Kingman Road, Stop 2533, Fort Belvoir, VA 22060-6221.”

* * * * *

S322.05 DMDC

System name:

Noncombatant Evacuation and Repatriation Data Base.

System location:

Defense Manpower Data Center, DoD Center Monterey Bay, 400 Gigling Road, Seaside, CA 93955-6771. Information may be accessed by remote terminals at the repatriation centers. The location of the repatriation centers can be obtained from the System manager listed below.

Categories of individuals covered by the system:

All noncombatant evacuees including service members, their dependents, DoD and non-DoD employees and dependents, U.S. residents abroad, foreign nationals and corporate employees and dependents.

Categories of records in the system:

Social Security Number, name, date of birth, passport number, country of citizenship, marital status, gender, employer, destination address and type of assistance needed.

Authority for maintenance of the system:

E.O. 12656, Assignment of Emergency Preparedness Responsibilities, November 18, 1988; DoD Directive 3025.14, Protection and Evacuation of U.S. Citizens and Designated Aliens in Danger Areas Abroad; and E.O. 9397 (SSN).

Purpose(s):

The records are maintained for the purposes of tracking and accounting for individuals evacuated from emergency situations in foreign countries, securing relocation and assistance services, and assessing and recovering relocation costs.

Routine use of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To individuals who have been evacuated but who have been separated from their family and/or spouse. Information will be released to the individual indicating where the family member was evacuated from and final destination.

To Department of State to plan and monitor evacuation effectiveness and need for services and to verify the number of people by category who have been evacuated.

To the American Red Cross so that upon receipt of information from a repatriation center that a DoD family has arrived safely in the U.S., the Red Cross may notify the service member (sponsor) still in the foreign country that his/her family has safely arrived in the United States.

To the Immigration and Naturalization Service to track and make contact with all foreign nationals who have been evacuated to the U.S.

To the Department of Health and Human Services for purposes of giving financial assistance and recoupment of same. To identify individuals who might arrive with an illness which would require quarantine.

The DoD “Blanket Routine Uses” set forth at the beginning of DLA's compilation of systems of records notices apply to this system.

Policies and practices for storing, retrieving, accessing and disposing of records in the system:

Storage:

Electronic and hard copy storage.

Retrievability:

Retrieved by name, Social Security Number, or location of evacuation point or repatriation center.

Safeguards:

Computerized records are maintained in a controlled area accessible only to authorized personnel. At Defense Manpower Data Center (DMDC), entry to these areas is restricted by the use of locks, guards, and administrative procedures. Access to personal information is limited to those who require the records in the performance of their official duties. Access to personal information is further restricted by the use of passwords which are changed periodically.

Retention and disposal:

Master file, system documentation, codebooks, record layouts, and other system documentation are permanent. Inputs/Source Records are deleted ­and/or destroyed after data have been entered into the master file or when no longer needed for operational purposes, whichever is later. Summary reports (electronic or paper) are deleted and/or destroyed when no longer needed for operational purposes.

System manager(s) and address:

Director, Defense Manpower Data Center, 1600 Wilson Boulevard, Suite 400, Arlington, VA 22209-2593.

Notification procedure:

Individuals seeking to determine whether information about themselves is contained in this system should address written inquiries to the Privacy Act Officer, Headquarters, Defense Logistics Agency, ATTN: DP, 8725 John J. Kingman Road, Stop 2533, Fort Belvoir, VA 22060-6221.

Record access procedures:

Individuals seeking access to information about themselves contained in this system should address written inquiries to the Privacy Act Officer, Headquarters, Defense Logistics Agency, ATTN: DP, 8725 John J. Kingman Road, Stop 2533, Fort Belvoir, VA 22060-6221.

Written inquiry should contain the full name, Social Security Number, date of birth, and current address and telephone number of the individual.

Contesting record procedures:

The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.

Record source categories:

The Military Services, DoD Components, and from individuals via application.

Exemptions claimed for the system:

None.

[FR Doc. 06-5100 Filed 6-2-06; 8:45 am]

BILLING CODE 5001-06-M